DEPARTMENT OF COMMERCE

Foreign-Trade Zones Board

[S-114-2013]

Approval of Subzone Status, Hardinger Transfer Co., Erie and Grove City, Pennsylvania

On July 24, 2013, the Executive Secretary of the Foreign-Trade Zones (FTZ) Board docketed an application submitted by the Erie Western Pennsylvania Port Authority, grantee of FTZ 247, requesting subzone status subject to the existing activation limit of FTZ 247, on behalf of Hardinger Transfer Co., in Erie and Grove City, Pennsylvania.

The application was processed in accordance with the FTZ Act and Regulations, including notice in the Federal Register inviting public comment (78 FR 45911, 7-30-2013). The FTZ staff examiner reviewed the application and determined that it meets the criteria for approval. Pursuant to the authority delegated to the FTZ Board Executive Secretary (15 CFR Sec. 400.36(f)), the application to establish Subzone 247C is approved, subject to the FTZ Act and the Board's regulations, including Section 400.13, and further subject to FTZ 247's 530-acre activation limit.

Dated: September 23, 2013.
Andrew McGilvray,
Executive Secretary.

[FR Doc. 2013-23656 Filed 9-26-13; 8:45 am]

BILLING CODE 3510-DS-P